DEPARTMENT OF VETERANS AFFAIRS

Veterans' Family, Caregiver, and Survivor Advisory Committee; Notice of Establishment

As required by Section 9(a)(2) of the Federal Advisory Committee Act, the Department of Veterans Affairs hereby gives notice of the establishment of the Veterans' Family, Caregiver, and Survivor Advisory Committee. The Secretary of Veterans Affairs has determined that establishing the Committee is both necessary and in the public interest.

The Committee will advise the Secretary and the Chief Veterans Experience Officer on matters related to Veterans families, caregivers, and survivors across all generations, relationship and Veteran status; and to gain a better understanding of the use of VA care and benefits services by Veterans families, the VA seeks to engage Veteran family members, Veterans family research experts and Veteran family service providers in the consideration of factors that influence access, quality and accountability.

Committee members will be appointed by the Secretary and membership will be drawn from various sectors and organizations including but not limited to Veteran-focused organizations; military history and academic communities; Veteran Service Organizations; Military Service Organizations; the National Association of State Directors of Veterans Affairs; non-profit, private, and corporate partners; the Federal executive branch; research experts; service providers; Veterans' family members, caregivers, survivors; and leaders of key stakeholder associations and organizations.

Any member of the public seeking additional information should contact Christine Merna, Designated Federal Officer (DFO), Department of Veterans Affairs, 810 Vermont Avenue NW., Washington, DC, or email at Christine.Merna@va.gov; or phone at (202) 632-8692.

Dated: May 22, 2017.
Jelessa M. Burney,
Federal Advisory Committee Management Officer.

[FR Doc. 2017-10721 Filed 5-24-17; 8:45 am]

BILLING CODE P